DEPARTMENT OF ENERGY

Federal Energy Regulatory Commission

[Project No. 13417-002]

Western Technical College; Notice of Application Tendered for Filing With the Commission and Soliciting Additional Study Requests

Take notice that the following hydroelectric application has been filed with the Commission and is available for public inspection.

a. Type of Application: Minor License.

b. Project No.: 13417-002.

c. Date filed: October 21, 2011.

d. Applicant: Western Technical College.

e. Name of Project: Angelo Dam Hydroelectric Project.

f. Location: The project would be located on the La Crosse River in the Township of Angelo, Monroe County, Wisconsin at an existing dam owned by Monroe County and regulated by the Wisconsin Department of Natural Resources. The project would not occupy Federal lands.

g. Filed Pursuant to: Federal Power Act 16 U.S.C. 791(a)-825(r).

h. Applicant Contact: Western Technical College, c/o Mr. Michael Pieper, Vice President, Finance and Operations, 400 Seventh Street North, P.O. Box C-0908, La Crosse, Wisconsin 54602-0908; Phone: (608) 785-9120.

i. FERC Contact: Isis Johnson, (202) 502-6346, isis.johnson@ferc.gov.

j. Cooperating agencies: Federal, State, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to Section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: December 20, 2011.

All documents may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-(866) 208-3676, or for TTY, (202) 502-8659. Although the Commission strongly encourages electronic filing, documents may also be paper-filed. To paper-file, mail an original and seven copies to: Kimberly D. Bose, Secretary, Federal Energy Regulatory Commission, 888 First Street NE., Washington, DC 20426.

m. The application is not ready for environmental analysis at this time.

n. The project would be located at an existing dam currently owned by Monroe County. The dam was built in 1854, and acquired in the 1920s by Northern States Power who rebuilt, owned, and operated a hydroelectric project at that location until it was abandoned and the generating equipment was removed, in 1969. In 1998, Monroe County rehabilitated the dam and installed new Tainter gates with cable drum hoists.

The existing Angelo dam is an earthen embankment with a maximum height of 14 feet and a total length of 507 feet. The spillway is constructed of reinforced concrete and consists of four, 13.5-foot-wide by 11.4-foot-high bays with 13.5-foot-wide by approximately 7-foot-high steel tainter gates. The proposed project would consist of: (1) A 20-foot by 20-foot by 20-foot forebay; (2) restoration of the intake structure; (3) new trash racks; (4) a 20-foot by 40-foot by 28-foot powerhouse located at the right abutment of the dam; and (5) a 205-kW vertical double regulated Kaplan turbine. The projected annual energy generation would be 948,760 kilowatt-hours. The project would interconnect to an existing 2.7kV distribution line owned by Northern States Power, at a point adjacent to the powerhouse.

The existing reservoir has a surface area of 52 acres, normally stores approximately 140 acre-feet at the spillway crest elevation, and has a normal operating range from 793 to 793.6 feet above mean sea level (msl). The maximum storage capacity is 450 acre-feet (based on an elevation of 796 feet msl at the top of the dam). The project would operate in a run-of-river mode and generate power using flows between 168 cubic feet per second (cfs) and 64 cfs. Flows greater than 168 cfs would be spilled.

o. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

p. With this notice, we are initiating consultation with the Wisconsin State Historic Preservation Officer (SHPO), as required by § 106, National Historic Preservation Act, and the regulations of the Advisory Council on Historic Preservation, 36, CFR, at 800.4.

q. Procedural schedule: The application will be processed according to the following preliminary Hydro Licensing Schedule. Revisions to the schedule will be made as appropriate.

Notice of Acceptance | December 2011.
Scoping Document 1 issued for comments | February 2012.
Comments on Scoping Document 1 | March 2012.
Scoping Document 2 and additional information request, if necessary | April 2012.
Notice of Ready for Environmental Analysis | June 2012.
Commission issues a single EA | January 2013.

Dated: October 28, 2011.
Kimberly D. Bose,
Secretary.

[FR Doc. 2011-28692 Filed 11-4-11; 8:45 am]

BILLING CODE 6717-01-P